DEPARTMENT OF HEALTH AND HUMAN SERVICE

Food and Drug Administration

Delegation of Authority

Notice is hereby given that I have delegated to the Commissioner of Food and Drugs the authority under Public Law 107-108 (Best Pharmaceuticals for Children Act), as amended by section 3(b)(2) of Public Law 108-155 (Pediatric Research Equity Act of 2003), to charter, convene, consult, and appoint members to an advisory committee on pediatric therapeutics. This authority may be redelegated.

The October 11, 2002, delegation of authority to you under Public Law 107-108 (Best Pharmaceuticals for Children Act) and Section 222 of the Public Health Service Act, as amended, (42 U.S.C. 217a), is superseded.

This delegation is effective upon date of signature. In addition, I ratified and affirmed any actions taken by you or your subordinates, which involved the exercise of the authorities delegated herein, prior to the effective date of this delegation.

Dated: April 30, 2004.
Tommy G. Thompson,
Secretary, Department of Health and Human Services.

[FR Doc. 04-10600 Filed 5-10-04; 8:45 am]

BILLING CODE 4160-01-M